DEPARTMENT OF AGRICULTURE

Forest Service

Kootenai National Forest; Montana; Kootenai National Forest Over-Snow Motorized Use Travel Plan

AGENCY: Forest Service, Agriculture (USDA).

ACTION: Notice of intent to prepare an environmental impact statement.

SUMMARY: The Forest Service (Forest Service), United States Department of Agriculture, will prepare an environmental impact statement (EIS) to inform a decision about the designation of trails and areas of the Kootenai National Forest which would be open to motorized over-snow use. The environmental impact statement will also inform a decision about the classes of vehicles and times of year for which motorized over-snow use will be allowed on designated trails and areas. Trails and areas designated for motorized over-snow vehicle use will be identified on an Over-Snow Vehicle Use Map which will specify the classes of vehicles and the time of year for which use is designated on the Kootenai National Forest.

DATES: The draft environmental impact statement is expected early in 2025, with a 45-day public comment period immediately following publication of this project's Notice of Availability of Draft Environmental Impact Statement in the Federal Register. The final environmental impact statement is expected by summer of 2025.

FOR FURTHER INFORMATION CONTACT: Kootenai National Forest, SM.FS.knfcontactus@usda.gov, 406-283-7740, or Stephani Rust, stephani.rust@usda.gov. Individuals may also visit the project's web page at https://www.fs.usda.gov/project/kootenai/?project=64358. Individuals who use telecommunication devices for the deaf and hard of hearing (TDD) may call the Federal Relay Service at 800-877-8339, 24 hours a day, every day of the year, including holidays.

SUPPLEMENTARY INFORMATION:

Purpose and Need for Action

Pursuant to the Travel Management Rule at 36 CFR 212 subpart C, the Forest Service must designate trails and areas to be open for motorized over-snow vehicle use. Once designated, trails and areas open to motorized over-snow vehicle use need to be identified on an Over-Snow Vehicle Use Map (36 CFR 212.81). Over-Snow Vehicle Use Maps must specify the classes of vehicles and the time of year for which use is designated (36 CFR 212.81(c)). The public shall be allowed to participate in the designation of National Forest System roads, trails, and areas, consistent with the National Environmental Policy Act (36 CFR 212.52).

On the 2.2-million-acre Kootenai National Forest, there is a need to designate trails and areas which would be open to motorized over-snow vehicle use. There is also a need to designate trails and areas open to motorized over-snow vehicle use within the Ten Lakes Wilderness Study Area of the Kootenai National Forest.

Proposed Action

The Forest Service proposes to designate approximately 1,302,000 acres of the Kootenai National Forest, including the Ten Lakes Wilderness Study Area, as areas open to cross-country motorized over-snow vehicle use. Approximately 987,000 acres are proposed as areas open for all classes of cross-country motorized over-snow travel from December 1 to May 31 each year. Approximately 315,000 acres are proposed as areas open for all classes of cross-country motorized over-snow travel from December 1 to March 31 and would be closed to motorized over-snow vehicle use on March 31 each year to accommodate grizzly bear den emergence. Areas designated for over-snow vehicle use would be identified on an Over-Snow Vehicle Use Map, in accordance with 36 CFR 212.81. Over-Snow Vehicle Use Maps would specify the classes of vehicles and the time of year for which use is designated (36 CFR 212.81(c)).

Additionally, the Forest Service proposes to designate approximately 380 miles of trails in the Kootenai National Forest, including in the Ten Lakes Wilderness Study Area, as open to motorized over-snow vehicle use. Approximately 285 miles of groomed over-snow trails and approximately 49 miles of ungroomed over-snow trails are proposed to be open to any over-snow vehicle class between December 1 and March 31 each year. Approximately 16 miles of groomed over-snow trails and 30 miles of ungroomed over-snow trails are proposed to be open to any over-snow vehicle class between December 1 and March 31 each year. Trails designated for over-snow vehicle use would be identified with the publication of an Over-Snow Vehicle Use Map, in accordance with 36 CFR 212.81.

An amendment to the Kootenai National Forest 2015 Land Management Plan may be considered to modify the boundaries of management area 5a (Backcountry-Non-motorized Year-round).

Expected Impacts

The minimization criteria were applied to the identification of the National Forest System areas and trails. Impacts to wolverine, grizzly bear, Canada lynx, and whitebark pine will be assessed in a biological assessment, and consultation with U.S. Fish and Wildlife Service is expected to occur. An amendment to the Kootenai National Forest 2015 Land Management Plan may be considered to modify the boundaries of management area 5a (Backcountry-Non-motorized Year-round) as it currently is mapped in the 2015 Land Management Plan. The following substantive requirements are likely to apply (219.13(b)(2)) to the potential amendment: 36 CFR 219.8(b) to guide the plan area's contribution to social and economic sustainability, taking into account: (1) social, cultural, and economic conditions relevant to the area influenced by the plan; (2) sustainable recreation; (3) multiple uses that contribute to local, regional, and national economies in a sustainable manner; and 36 CFR 219.9(a)(2) the plan must include plan components that maintain or restore the diversity of ecosystems and habitat types throughout the plan area.

Responsible Official

Kootenai National Forest Supervisor.

Scoping Comments and the Objection Process

Public scoping of this project occurred in April 2015 and July through September 2023; those scoping efforts have informed this proposed action. Public scoping will not be repeated; however, additional opportunities for public comment will be provided when the Draft EIS is available.

Any decision about this project may be subject to 36 CFR 218 and/or 36 CFR 219 pre-decisional review (objection). Unless received anonymously, public comments received during the scoping period from July 13, 2023 through September 29, 2023 or other designated opportunities for public comment may establish eligibility for participation in pre-decisional administrative review. Issues raised in an objection must be based on previously submitted comments, unless based on new information arising after designated opportunities.

Nature of Decision To Be Made

The decision will determine the designation of trails and areas of the Kootenai National Forest which will be open to motorized over-snow use, as well as determining the classes of vehicles and times of year for which motorized over-snow use will be allowed on designated trails and areas.

Substantive Provisions

An amendment to the Kootenai National Forest 2015 Land Management Plan may be considered to modify the boundaries of management area 5a (Backcountry-Non-motorized Year-round) as it currently is mapped in the 2015 Land Management Plan. The following substantive requirements are likely to apply (219.13(b)(2)) to the potential amendment: 36 CFR 219.8(b) to guide the plan area's contribution to social and economic sustainability, taking into account: (1) social, cultural, and economic conditions relevant to the area influenced by the plan; (2) sustainable recreation; (3) multiple uses that contribute to local, regional, and national economies in a sustainable manner; and 36 CFR 219.9(a)(2) the plan must include plan components that maintain or restore the diversity of ecosystems and habitat types throughout the plan area.

Dated: April 22, 2024.
Troy Heithecker,
Associate Deputy Chief, National Forest System.

[FR Doc. 2024-08951 Filed 4-25-24; 8:45 am]

BILLING CODE 3411-15-P